SMALL BUSINESS ADMINISTRATION

[Disaster Declaration # 13054 and # 13055]

West Virginia Disaster Number WV-00027

AGENCY: U.S. Small Business Administration.

ACTION: Amendment 2.

SUMMARY: This is an amendment of the Presidential declaration of a major disaster for the State of West Virginia (FEMA—4061—DR), dated 03/22/2012.

Incident: Severe storms, flooding, mudslides and landslides.

Incident Period: 03/15/2012 through 03/31/2012.

Effective Date: 04/20/2012.

Physical Loan Application Deadline Date: 05/21/2012.

EIDL Loan Application Deadline Date: 12/24/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of West Virginia, dated 03/22/2012 is hereby amended to include the following areas as adversely affected by the disaster:

Primary Counties: (Physical Damage and Economic Injury Loans): Lincoln, Mingo.

Contiguous Counties: (Economic Injury Loans Only):

Kentucky: Martin, Pike.

Virginia: Buchanan.

West Virginia: Cabell, Kanawha, Mcdowell, Putnam, Wayne.

All other information in the original declaration remains unchanged.

(Catalog of Federal Domestic Assistance Numbers 59002 and 59008)

Joseph P. Loddo,
Acting Associate Administrator for Disaster Assistance.

[FR Doc. 2012-10118 Filed 4-26-12; 8:45 am]

BILLING CODE 8025-01-P